DEPARTMENT OF HOMELAND SECURITY

U.S. Citizenship and Immigration Services

[CIS No. 2789-25; DHS Docket No. USCIS-2024-0015]

RIN 1615-ZC11

Designation of Lebanon for Temporary Protected Status

AGENCY: U.S. Citizenship and Immigration Services (USCIS), Department of Homeland Security (DHS).

ACTION: Notice of Temporary Protected Status (TPS) designation.

SUMMARY: Through this notice, the Department of Homeland Security (DHS) announces that the Secretary of Homeland Security (Secretary) is designating Lebanon for Temporary Protected Status (TPS) for 18 months, beginning on November 27, 2024, and ending on May 27, 2026. This designation allows Lebanese nationals (and individuals having no nationality who last habitually resided in Lebanon) who have continuously resided in the United States since October 16, 2024, and who have been continuously physically present in the United States since November 27, 2024, to apply for TPS.

DATES: Designation of Lebanon for TPS begins on November 27, 2024, and will remain in effect for 18 months. For registration instructions, see the Registration Information section below.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 240-721-3000.

• For further information on TPS, including guidance on the registration process and additional information on eligibility, please visit the USCIS TPS web page at https://uscis.gov/tps. You can find specific information about Lebanon's TPS designation by selecting “Lebanon” from the menu on the left side of the TPS web page.

• If you have additional questions about TPS, please visit https://uscis.gov/tools. Our online virtual assistant, Emma, can answer many of your questions and point you to additional information on our website. If you cannot find your answers there, you may also call our USCIS Contact Center at 800-375-5283 (TTY 800-767-1833).

• Applicants seeking information about the status of their individual cases may check Case Status Online, available on the USCIS website at uscis.gov, or visit the USCIS Contact Center at https://uscis.gov/contactcenter.

• You can also find more information at local USCIS offices after this notice is published.

SUPPLEMENTARY INFORMATION:

Table of Abbreviations

BIA—Board of Immigration Appeals

CFR—Code of Federal Regulations

DHS—U.S. Department of Homeland Security

DoS—U.S. Department of State

EAD—Employment Authorization Document

FNC—Final Nonconfirmation

Form I-131—Application for Travel Documents, Parole Documents, and Arrival/Departure Records

Form I-765—Application for Employment Authorization

Form I-797—Notice of Action (Approval Notice)

Form I-797C—Notice of Action (Receipt Notice)

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

PDF—Portable Document Format

SAVE—USCIS Systematic Alien Verification for Entitlements Program

Secretary—Secretary of Homeland Security

TPS—Temporary Protected Status

TTY—Text Telephone

USCIS—U.S. Citizenship and Immigration Services

U.S.C.—United States Code

Registration Information

Registration: The registration period for individuals to apply for TPS begins on November 27, 2024, and will remain in effect through May 27, 2026.

Purpose of This Action (TPS)

Through this notice, DHS sets forth procedures necessary for nationals of Lebanon (or individuals having no nationality who last habitually resided in Lebanon) to submit an initial registration application under the designation of Lebanon for TPS and apply for an Employment Authorization Document (EAD). Under the designation, individuals must submit an initial Application for Temporary Protected Status (Form I-821) for Lebanon, and they may also submit an Application for Employment Authorization (Form I-765), during the 18-month initial registration period that runs from November 27, 2024, through May 27, 2026. In addition to demonstrating continuous residence in the United States since October 16, 2024,¹ and meeting other eligibility criteria, initial applicants for TPS under this designation must demonstrate that they have been continuously physically present in the United States since November 27, 2024, the effective date of this designation of Lebanon, before USCIS may grant them TPS. DHS estimates that approximately 11,000 individuals are eligible to apply for TPS under the designation of Lebanon.

¹ The “continuous residence date” (CR) is any date established by the Secretary when a country is designated (or sometimes redesignated) for TPS. The “continuous physical presence date” (CPP) is the effective date of the most recent TPS designation of the country, which is either the publication date of the designation announcement in the Federal Register or a later date established by the Secretary. See INA sec. 244(b)(2)(A) (effective date of designation), (c)(1)(A)(i)-(ii) (discussing CR and CPP date requirements); 8 U.S.C. 1254a(b)(2)(A), (c)(1)(A)(i)-(ii).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, are authorized to work, and may obtain EADs if they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

What authority does the Secretary have to designate Lebanon for TPS?

Section 244(b)(1) of the INA, 8 U.S.C. 1254a(b)(1), authorizes the Secretary, after consultation with appropriate agencies of the U.S. Government, to designate a foreign state (or part thereof) for TPS if the Secretary determines that certain country conditions exist.² The Secretary may designate a country (or part of a country) for TPS on the basis of an “ongoing armed conflict” in the country if, due to such conflict, requiring the return of that country's nationals “would pose a serious threat to their personal safety.” ³ The Secretary also may designate a country (or part thereof) for TPS if the Secretary finds “that there exist extraordinary and temporary conditions” in the country that prevent that country's nationals “from returning to the [country] in safety,” unless the Secretary finds that permitting such nationals “to remain temporarily in the United States is contrary to the national interest of the United States.” ⁴

² Although INA section 244(b)(1) ascribes this power to the Attorney General, Congress transferred this authority from the Attorney General to the Secretary of Homeland Security. See Homeland Security Act of 2002, Pub. L. 107-296, 116 Stat. 2135 (2002); see also 8 U.S.C. 1103(a); 6 U.S.C. 557.

³ INA sec. 244(b)(1)(A), 8 U.S.C. 1254a(b)(1)(A).

⁴ INA sec. 244(b)(1)(C), 8 U.S.C. 1254a(b)(1)(C). In addition, the Secretary may designate a country (or part thereof) for TPS based on an environmental disaster if the country has officially requested such designation and certain other statutory requirements are met. INA sec. 244(b)(1)(B), 8 U.S.C. 1254a(b)(1)(B).

The decision to designate any foreign state (or part thereof) is a discretionary decision, and there is no judicial review of any determination with respect to the designation, termination, or extension of a designation. See INA sec. 244(b)(5)(A), 8 U.S.C. 1254a(b)(5)(A). The Secretary, at their discretion, may then grant TPS to eligible nationals of that foreign state (or individuals having no nationality who last habitually resided in the designated foreign state). See INA sec. 244(a)(1)(A), 8 U.S.C. 1254a(a)(1)(A).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the conditions in the foreign state continue to meet the conditions for TPS designation, the designation will be extended for an additional period of six months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

Why was Lebanon designated for TPS?

DHS has reviewed conditions in Lebanon. Based on this review, including input received from the Department of State (DoS) and other U.S. Government agencies, the Secretary has determined that an 18-month TPS designation is warranted because of armed conflict and extraordinary and temporary conditions described below.⁵

⁵ This TPS designation for Lebanon is separate and apart from the President's July 26, 2024 memorandum providing for deferred enforced departure (DED) for certain Lebanese nationals in the United States. See Deferred Enforced Departure for Certain Lebanese Nationals, 89 FR 61341 (July 26, 2024); see also Implementation of Employment Authorization for Individuals Covered by Deferred Enforced Departure for Lebanon, 89 FR 83901 (Oct. 18, 2024).

Overview

Long-standing humanitarian needs in Lebanon have been exacerbated by an escalation of armed conflict in the country, resulting in civilian casualties and massive numbers of displaced individuals. Lebanon was already grappling with profound socioeconomic and political crises, and the destruction and casualties caused by the ongoing armed conflict further threaten the safety of people in Lebanon and have significantly intensified the impact of the crises on people in Lebanon.

Armed Conflict

Since October 7, 2023, there has been an escalation of hostilities across the Lebanon-Israel border between Hezbollah ⁶ and the Israel Defense Forces. By September 2024, the conflict between Israel and Hezbollah had significantly escalated, with Israel launching a ground invasion of southern Lebanon on September 30, 2024.⁷ Israeli airstrikes targeting Hezbollah strongholds, including in urban regions in and around Beirut, caused civilian casualties and displacement.⁸

⁶ Hezbollah (also spelled “Hizballah”) was designated as a foreign terrorist organization in 1997. See U.S. Dep't of State, Country Reports on Terrorism 2022, 276, Nov. 30, 2023, available at https://www.state.gov/wp-content/uploads/2023/11/Country_Reports_on_Terrorism_2022-v3.pdf (accessed Oct. 15, 2024).

⁷ Israel-Hezbollah conflict in maps: Where is fighting happening in Lebanon, BBC, Oct. 9, 2024, available at: https://www.bbc.com/news/articles/c9vp7dg3ml1o (last visited Oct. 31, 2024); ReliefWeb, Statement By the Humanitarian Coordinator for Lebanon, Imran Riza, on the One-Year Mark of Escalations in Lebanon, 9 October 2024, available at: https://reliefweb.int/report/lebanon/statement-humanitarian-coordinator-lebanon-imran-riza-one-year-mark-escalations-lebanon-9-october-2024-enar (accessed Oct. 31, 2024).

⁸ Melanie Lidman, Bassam Hatoum, and Bassem Mroue, Israel expands its bombardment in Lebanon as thousands flee widening war, AP, October 5, 2024, available at: https://apnews.com/article/mideast-wars-lebanon-hezbollah-hamas-5-october-2024-a8b70daeccc57a86fc6d939c604f2caf (accessed Oct. 31, 2024).

Since October 2023, more than 2,000 people in Lebanon have been killed and almost 10,000 injured, with approximately 1,100 people in Lebanon killed and 7,000 injured between September 17, 2024, and October 7, 2024 alone.⁹ Approximately one million people have been impacted by the conflict, with estimates of between 541,000 and one million people being displaced in Lebanon, and over 200,000 people have fled to Syria.¹⁰ The armed conflict has resulted in one of the deadliest periods in Lebanon's recent history.¹¹

⁹ 9 Lebanon: Flash Update #33—Escalation of hostilities in Lebanon, United Nations Office for the Coordination of Humanitarian Affairs (OCHA), Oct. 9, 2024, available at: https://reliefweb.int/report/lebanon/lebanon-flash-update-33-escalation-hostilities-lebanon-7-october-2024 (last visited Oct. 31, 2024); Lebanon: At a Glance—Escalation of hostilities in Lebanon, as of 07 October 2024, United Nations Office for the Coordination of Humanitarian Affairs (OCHA), Oct. 7, 2024, available at: https://reliefweb.int/report/lebanon/lebanon-glance-escalation-hostilities-lebanon-07-october-2024-assistance-provided-27-september-2024 (last visited Oct. 31, 2024).

¹⁰ OCHA, Today's top news: Lebanon, Occupied Palestinian Territory, Cameroon, Oct. 18, 2024, available at: https://www.unocha.org/news/todays-top-news-lebanon-occupied-palestinian-territory-cameroon (accessed Oct. 31, 2024); Displacement Tracking Matrix: Lebanon, Mobility Snapshot: Round 51, International Organization for Migration (IOM), Oct. 7, 2024, available at: https://dtm.iom.int/reports/lebanon-mobility-snapshot-round-51-07-10-2024 (last visited Oct. 31, 2024). See also European Commission, Lebanon, available at: https://civil-protection-humanitarian-aid.ec.europa.eu/where/middle-east-and-northern-africa/lebanon_en#:~:text=People%20in%20Lebanon%2C%20including%20refugees,are%20dramatically%20exacerbating%20these%20vulnerabilities (accessed Oct. 31, 2024); United Nations High Commissioner for Refugees, Displaced families in Lebanon yearn for peace and a return home, Oct. 6, 2024, available at: https://www.unhcr.org/us/news/stories/displaced-families-lebanon-yearn-peace-and-return-home (accessed Nov. 4, 2024).

¹¹ ReliefWeb, Statement By the Humanitarian Coordinator for Lebanon, Imran Riza, on the One-Year Mark of Escalations in Lebanon, 9 October 2024, available at: https://reliefweb.int/report/lebanon/statement-humanitarian-coordinator-lebanon-imran-riza-one-year-mark-escalations-lebanon-9-october-2024-enar (accessed Oct. 31, 2024).

Economic Crisis

Lebanon has been experiencing an economic crisis since 2019.¹² In October 2019, the Lebanese pound collapsed due to the nation's “unstable fixed exchange rate, large external and fiscal deficits, and mounting losses in the banking sector, which led to an abrupt reduction of capital inflows.” ¹³ In March 2020, Lebanon defaulted on its government debt for the first time in its history.¹⁴ Since the onset of the financial crisis in 2019, the Lebanese pound has lost more than 98% of its value.¹⁵ In 2021, the International Monetary Fund (IMF) estimated that Lebanon's economic collapse may be the third worst economic crisis in the world since the mid-nineteenth century.¹⁶ Almost four years after the collapse, in December 2023, the IMF warned that “the small nation is still facing `enormous economic challenges,' with a collapsed banking sector, eroding public services, deteriorating infrastructure and worsening poverty.” ¹⁷

¹² Georgetown Journal of International Affairs, The End Game to Lebanon's Woes: IMF Reform and Political Willingness, Nov. 10, 2023, available at: https://gjia.georgetown.edu/2023/11/10/the-end-game-to-lebanons-woes-imf-reform-and-political-willingness/ (accessed Oct. 31, 2024).

¹³ Georgetown Journal of International Affairs, The End Game to Lebanon's Woes: IMF Reform and Political Willingness, Nov. 10, 2023, available at: https://gjia.georgetown.edu/2023/11/10/the-end-game-to-lebanons-woes-imf-reform-and-political-willingness/ (accessed Oct. 31, 2024).

¹⁴ The Guardian, Lebanon to default on debt for first time amid financial crisis, Mar. 7, 2020, available at: https://www.theguardian.com/world/2020/mar/07/lebanon-to-default-on-debt-for-first-time-amid-financial-crisis (accessed Oct. 31, 2024).

¹⁵ World Bank, Lebanon: New World Bank Project to Restore Basic Fiscal Management Functions in Support of Public Service Delivery, Feb. 15, 2024, available at: https://www.worldbank.org/en/news/press-release/2024/02/15/lebanon-new-world-bank-project-to-restore-basic-fiscal-management-functions-in-support-of-public-service-delivery#:~:text=Beirut%2C%20February%2015%2C%202024%20%E2%80%93,and%20use%20of%20public%20resources (accessed Oct. 31, 2024).

¹⁶ The World Bank, Lebanon Economic Monitor, Spring 2021: Lebanon Sinking (to the Top 3), available at: https://www.worldbank.org/en/country/lebanon/publication/lebanon-economic-monitor-spring-2021-lebanon-sinking-to-the-top-3 (accessed Oct. 31, 2024).

¹⁷ Bassem Mroue, IMF warns Lebanon that the country is still facing enormous challenges, years after a meltdown began, Reuters, Sept. 15, 2023, available at: https://apnews.com/article/lebanon-imf-central-bank-sayrafa-banks-meltdown-0d56ddea8dc9510d110959f794a06ed9 (accessed Oct. 31, 2024).

Poverty in Lebanon has more than tripled over the past decade reaching 44% of the total population.¹⁸ Families in Lebanon are described as multidimensionally poor, with “rising deprivation in the areas of health care, medicines, services, education employment, housing and assets.” ¹⁹ Protective food subsidies have ended and living costs have risen dramatically, preventing families from accessing enough food and other basic needs each day.²⁰

¹⁸ World Bank, Lebanon Poverty and Equity Assessment 2024: Weathering a Protracted Crisis (English). Washington, DC: World Bank Group, May 23, 2024, available at: https://documents1.worldbank.org/curated/en/099052224104516741/pdf/P1766511325da10a71ab6b1ae97816dd20c.pdf (accessed Oct. 31, 2024).

¹⁹ United Nations Economic and Social Commission for Western Asia (ESCWA), Multidimensional poverty in Lebanon (2019-2021), available at: https://www.unescwa.org/sites/default/files/news/docs/21-00634-_multidimentional_poverty_in_lebanon_-policy_brief_-_en.pdf (accessed Oct. 31, 2024).

²⁰ IPC—Integrated Food Security Phase Classification, Lebanon: Acute Food Insecurity Projection Update for April-September 2023, May 30, 2024, available at: https://www.ipcinfo.org/ipc-country-analysis/details-map/en/c/1157035/?iso3=LBN (accessed Nov. 5, 2024).

Political Crisis

Since 2022, reports have implicated current and former Lebanese prime ministers in corruption cases.²¹ More crucially, Lebanon has not had a President since 2022, when Michel Aoun stepped down a day before his presidential term expired.²² The country's affairs are run by an unelected caretaker government; with no elected president, passage of new legislation and much needed economic reform is not occurring.²³ Moreover, since the hostilities increased between Israel and Hezbollah, tensions have also increased between Hezbollah and Sunni and Maronite factions, making political agreements unlikely in the near-term.²⁴

²¹ The Washington Post, Pandora Papers: Leaks prompt investigations in some countries—and denial in others, Oct. 9, 2021, available at: https://www.washingtonpost.com/world/2021/10/09/russia-ukraine-jordan-lebanon-pandora-papers/ (accessed Oct. 31, 2024).

²² Lebanon's president leaves with no replacement amid political, economic crisis, PBS News Hour, Oct. 30, 2022, available at: https://www.pbs.org/newshour/world/lebanons-president-leaves-with-no-replacement-amid-political-economic-crisis (accessed Oct. 31, 2024); Matt Bradley, Analysis: As war rages, some in Lebanon see opportunity in a weakened Hezbollah, NBC News, Oct. 4, 2024, available at: https://www.nbcnews.com/news/world/israel-hezbollah-war-nasrallah-airstrikes-hamas-gaza-assassinations-rcna173851 (accessed Oct. 31, 2024).

²³ Matt Bradley, Analysis: As war rages, some in Lebanon see opportunity in a weakened Hezbollah, NBC News, Oct. 4, 2024, available at: https://www.nbcnews.com/news/world/israel-hezbollah-war-nasrallah-airstrikes-hamas-gaza-assassinations-rcna173851 (accessed Oct. 31, 2024).

²⁴ Instability in Lebanon, Global Conflict Tracker, Center for Preventive Action, Council on Foreign Relations, Feb. 13, 2024, available at: https://www.cfr.org/global-conflict-tracker/conflict/political-instability-lebanon (accessed Oct. 31, 2024).

The inability to effectively govern in Lebanon has resulted in financial insolvency, crumbling infrastructure, and the inability to provide basic services including access to electricity and fuel.²⁵ Problems with the electric utility are particularly severe, leading to shortages, including in August of this year when “Lebanon's only operational power plant shut down after the state-run electricity company . . . ran out of fuel, resulting in a complete nationwide power outage.” ²⁶ The blackout “left residents and key state institutions, such as the airport, water pump stations, sewage systems, and prisons, without state-provided electricity for more than 24 hours, and reliant on costly and highly polluting private diesel generators.” ²⁷ The Lebanese state is unable to provide the vast majority of citizens with more than one to three hours of electricity per day.²⁸ This lack of access to electricity has adversely impacted access to education, health, water, sanitation, and a healthy environment.²⁹

²⁵ International Organization for Migration, Lebanon Crisis Response Plan 2024, available at: https://crisisresponse.iom.int/response/lebanon-crisis-response-plan-2024 (accessed Oct. 31, 2024); Human Rights Watch, Cut Off From Life Itself: Lebanon's Failure on the Right to Electricity, Mar. 9, 2023, available at: https://www.hrw.org/report/2023/03/09/cut-life-itself/lebanons-failure-right-electricity (accessed Oct. 31, 2024).

²⁶ Human Rights Watch, Lebanon: Nationwide Electricity Blackout, Aug. 29, 2024, available at https://www.hrw.org/news/2024/08/29/lebanon-nationwide-electricity-blackout (accessed Oct. 31, 2024).

²⁷ Human Rights Watch, Lebanon: Nationwide Electricity Blackout, Aug. 29, 2024, available at https://www.hrw.org/news/2024/08/29/lebanon-nationwide-electricity-blackout (accessed Oct. 31, 2024).

²⁸ Human Rights Watch, “Cut Off From Life Itself” Lebanon's Failure on the Right to Electricity, Mar. 9, 2023, available at: https://www.hrw.org/report/2023/03/09/cut-life-itself/lebanons-failure-right-electricity (accessed Oct. 31, 2024).

²⁹ Id.

Humanitarian Crisis

The economic crisis, government failings, and recent escalating conflict have worsened an already fragile humanitarian situation in Lebanon.³⁰ According to the United Nations Office for the Coordination of Humanitarian Affairs, “one year on from the escalation of hostilities across the country's southern border, Lebanon's humanitarian crisis is deteriorating at an alarming rate,” with Israeli airstrikes expanding beyond the border into civilian areas and greatly impacting vulnerable populations in Lebanon.³¹ Access to sufficient food, water, and healthcare has decreased.³² Humanitarian needs continue to increase amid the escalating hostilities in Lebanon, exacerbated by the damage to vital infrastructure.³³

³⁰ OCHA, Today's top news: Israel and Occupied Palestinian Territory, Lebanon, Sudan, Oct. 7, 2024, available at: https://www.unocha.org/news/todays-top-news-israel-and-occupied-palestinian-territory-lebanon-sudan (accessed Oct. 31, 2024).

³¹ Lebanon: Flash Update #33—Escalation of hostilities in Lebanon, United Nations Office for the Coordination of Humanitarian Affairs (OCHA), Oct. 9, 2024, available at: https://reliefweb.int/report/lebanon/lebanon-flash-update-33-escalation-hostilities-lebanon-7-october-2024 (last visited Oct. 31, 2024).

³² OCHA, Today's top news: Israel and Occupied Palestinian Territory, Lebanon, Sudan, Oct. 7, 2024, available at: https://www.unocha.org/news/todays-top-news-israel-and-occupied-palestinian-territory-lebanon-sudan (accessed Oct. 31, 2024); World Food Programme, Lebanon, available at: https://www.wfp.org/countries/lebanon (accessed Oct. 31, 2024).

³³ OCHA, Today's top news: Israel and Occupied Palestinian Territory, Lebanon, Sudan, Oct. 7, 2024, available at: https://www.unocha.org/news/todays-top-news-israel-and-occupied-palestinian-territory-lebanon-sudan (accessed Oct. 31, 2024).

Financial barriers and lack of medicine have significantly reduced access to health care in Lebanon.³⁴ The ongoing hostilities have aggravated these issues, with services struggling to respond to the needs of the displaced and conflict-affected,³⁵ and health care facilities have been either destroyed or closed due to the conflict.³⁶ Access to food and potable water continue to be limited, as “[w]ater infrastructure is also affected with to date, at least 25 water facilities damaged affecting more than 300,000 people.” ³⁷ According to the World Food Programme, 2.5 million people of the 5.3 million population need food assistance and 47.5 percent of people in Lebanon (including Lebanese nationals and refugees) are food insecure.³⁸

³⁴ European Commission, Lebanon, available at: https://civil-protection-humanitarian-aid.ec.europa.eu/where/middle-east-and-northern-africa/lebanon_en#:~:text=People%20in%20Lebanon%2C%20including%20refugees,are%20dramatically%20exacerbating%20these%20vulnerabilities (accessed Oct. 31, 2024).

³⁵ Id.

³⁶ OCHA, Today's top news: Israel and Occupied Palestinian Territory, Lebanon, Sudan, Oct. 7, 2024, available at: https://www.unocha.org/news/todays-top-news-israel-and-occupied-palestinian-territory-lebanon-sudan (accessed Oct. 31, 2024).

³⁷ Id.

³⁸ World Food Programme, Lebanon, available at: https://www.wfp.org/countries/lebanon (accessed Oct. 31, 2024).

Moreover, increasing levels of internal displacement are exacerbating the challenges facing Lebanon, including those related to hosting the substantial Syrian refugee population.³⁹ Children have also been impacted by the conflict. The start of the new school year has been postponed until November 4th as 75 percent of the country's public schools have been converted into shelters.⁴⁰ “More than 10% of the 1.2 million school-aged Lebanese children are out of school, mainly due to economic vulnerabilities. Additionally, 54% of the 715,000 Syrian refugee children are out of formal education, with only 47,000 of them accessing some form of non-formal education.” ⁴¹

³⁹ OCHA, Today's top news: Lebanon, Occupied Palestinian Territory, Cameroon, Oct. 18, 2024, available at: https://www.unocha.org/news/todays-top-news-lebanon-occupied-palestinian-territory-cameroon (accessed Oct. 31, 2024); Human Rights Watch, Lebanon Events of 2022, available at: https://www.hrw.org/world-report/2023/country-chapters/lebanon (accessed Oct. 31, 2024).

⁴⁰ ReliefWeb, Statement by the Humanitarian Coordinator for Lebanon, Imran Riza, on the One-Year Mark of Escalations in Lebanon, 9 October 2024, available at: https://reliefweb.int/report/lebanon/statement-humanitarian-coordinator-lebanon-imran-riza-one-year-mark-escalations-lebanon-9-october-2024-enar (accessed Oct. 31, 2024).

⁴¹ European Commission, Lebanon, available at: https://civil-protection-humanitarian-aid.ec.europa.eu/where/middle-east-and-northern-africa/lebanon_en#:~:text=People%20in%20Lebanon%2C%20including%20refugees,are%20dramatically%20exacerbating%20these%20vulnerabilities (accessed Oct. 31, 2024).

In summary, based on the escalation of armed conflict and its resulting impacts on critical infrastructure, pre-existing economic and political crises, and further deteriorating humanitarian conditions, Lebanese nationals are unable to return safely to their homes.

Notice of the Designation of Lebanon for TPS

By the authority vested in me as Secretary under INA section 244, 8 U.S.C. 1254a, I have determined, after consultation with the appropriate U.S. Government agencies, the statutory conditions supporting Lebanon's designation for TPS on the basis of armed conflict and extraordinary and temporary conditions are met, and it is not contrary to the national interest of the United States to permit TPS Lebanon beneficiaries to remain in the United States temporarily. See INA sec. 244(b)(1)(A) and (C), 8 U.S.C. 1254a(b)(1)(A) and (C). I estimate approximately 11,000 individuals may be eligible for TPS under the designation of Lebanon. On the basis of this determination, I am designating Lebanon for TPS for 18 months, beginning on November 27, 2024, and ending on May 27, 2026. See INA sec. 244(b)(1) and (b)(2); 8 U.S.C. 1254a(b)(1), and (b)(2).

Alejandro N. Mayorkas
Secretary, U.S. Department of Homeland Security.

Eligibility and Employment Authorization for TPS

Required Application Forms and Application Fees To Register for TPS

To register for TPS based on the designation of Lebanon, you must submit a Form I-821 and pay the filing fee (or request a fee waiver, which you may submit on Form I-912). You also need to pay a biometric services fee. If you cannot pay the biometric services fee, you may ask USCIS to waive the fee. Please see additional information under the “Biometric Services Fee” section of this notice.

TPS beneficiaries are eligible for an EAD, which proves they are authorized to work in the United States. You do not need to submit Form I-765 or have an EAD to be granted TPS, but if you want an EAD to use as proof that you can work in the United States, see below for more information.

For more information on the application forms and fees for TPS, please visit the USCIS TPS web page at https://www.uscis.gov/tps. Fees for the Form I-821, the Form I-765, and biometric services are also described in 8 CFR 106.2 and the fee waiver-related regulations in 8 CFR 106.3. In addition, USCIS Form G-1055, Fee Schedule, provides the current fees required for the Form I-821 and Form I-765 for TPS applicants.

How can TPS beneficiaries obtain an Employment Authorization Document (EAD)?

Everyone must provide their employer with documentation showing that they have the legal right to work in the United States. TPS beneficiaries are eligible to obtain an EAD, which proves their legal right to work. If you want to obtain an EAD, you must file Form I-765 and pay the Form I-765 fee (or request a fee waiver, which you may submit on Form I-912). TPS applicants may file this form along with their TPS application, or at a later date, if their TPS application is still pending or has been approved.

Refiling an Initial TPS Registration Application After Receiving a Denial of a fee Waiver Request

If USCIS denies your fee waiver request, you can resubmit your TPS application. The fee waiver denial notice will contain specific instructions about resubmitting your application.

Filing Information

USCIS offers the option to applicants for TPS under Lebanon's designation to file Form I-821 and related requests for EADs online or by mail. However, if you file Form I-912, Request for Fee Waiver or a written fee waiver request for your Form I-821 or any applications filed together with your Form I-821, you must submit your applications by mail. When filing a TPS application, you can also request an EAD by submitting a completed Form I-765 with your Form I-821. Under certain circumstances, you may also upload a completed Form I-765 with a fee or fee waiver request, in Portable Document Format (PDF) through your USCIS online account. More information about filing your Form I-765 and fee waiver request through a PDF upload is available at https://www.uscis.gov/newsroom/stakeholder-messages/uscis-launches-online-pdf-filing-option.

Online filing: Form I-821 and Form I-765 are available for concurrent filing online.⁴² To file these forms online, you must first create a USCIS online account.⁴³

⁴² Find information about online filing at “Forms Available to File Online,” https://www.uscis.gov/file-online/forms-available-to-file-online.

⁴³ https://myaccount.uscis.gov/users/sign_up.

PDF upload: Form I-765, if applicable, and Form I-912, if applicable, are available for PDF upload. To upload these documents, you must first create a USCIS online account.⁴⁴

⁴⁴ https://www.uscis.gov/newsroom/stakeholder-messages/uscis-launches-online-pdf-filing-option. Sign up to create a new USCIS online account at https://myaccount.uscis.gov/users/sign_up.

Mail filing: Mail your completed Form I-821; Form I-765, if applicable; Form I-912, if applicable; and supporting documentation to the proper address in Table 1—Mailing Addresses.

Table 1—Mailing Addresses
If you send your paper application via: | Then, mail your application to:
U.S. Postal Service USPS: | USCIS Attn: TPS Lebanon, P.O. Box 6943, Chicago, IL 60680-6943.
FedEx, UPS, or DHL deliveries: | USCIS Attn: TPS Lebanon (Box 6943), 131 S. Dearborn St. 3rd Floor, Chicago, IL 60603-5517.

If you were granted TPS by an immigration judge (IJ) or the Board of Immigration Appeals (BIA) and you want to request an EAD, you may submit Form I-765 one of three ways: online, mail your Form I-765 to the appropriate address in table 1, or upload a completed PDF through your USCIS online account. If you file online, you must include the fee. If you file by mail, you must include the fee or fee waiver request. If you file by PDF upload, you must include the fee or a fee waiver request. When you request an EAD based on an IJ or BIA grant of TPS, include with your application a copy of the order from the IJ or BIA granting you TPS. This will help us verify your grant of TPS and process your application.

Supporting Documents

The filing instructions for Form I-821 list all the documents you need to establish eligibility for TPS. You may also find information on the acceptable documentation and other requirements for applying (also called registering) for TPS on the USCIS website at https://uscis.gov/tps under “Lebanon.”

Travel

TPS beneficiaries and TPS applicants with pending Form I-821 applications may also apply for travel authorization, which USCIS may grant as a matter of discretion. You must file for travel authorization if you wish to travel outside of the United States. If USCIS grants travel authorization, it gives you permission to leave the United States and return during a specific period. To request travel authorization, you must file Form I-131, available at https://www.uscis.gov/i-131. You may file Form I-131 together with your Form I-821 or separately.

When you file Form I-131, a TPS beneficiary must:

• Select Item Number 4 in Part 1 on the Form I-131; and

• Submit the fee for Form I-131, or request a fee waiver, which you may submit on Form I-912.

When you file Form I-131, a TPS applicant with a pending Form I-821 must:

• Select Item Number 5C in Part 1 on the Form I-131; and

• Submit the fee for Form I-131, or request a fee waiver, which you may submit on Form I-912.

If you are filing Form I-131 together with Form I-821, send your forms to the address listed in table 1. If you are filing Form I-131 separately based on a pending or approved Form I-821, send your form to the address listed in table 2 and include a copy of Form I-797, Notice of Action, or Form I-797C, Notice of Action, indicating either approval or receipt of Form I-821. Form I-131 may not be filed by PDF upload.

Table 2—Mailing Addresses
If you are . . . | Mail to . . .
Filing Form I-131 together with a Form I-821 | The address provided in table 1.
Filing Form I-131 based on a pending or approved Form I-821, and you are using the U.S. Postal Service (USPS): You must include a copy of the Notice of Action (Form I-797C or I-797) showing USCIS received or approved your Form I-821. | USCIS, Attn: I-131 TPS, P.O. Box 660167, Dallas, TX 75266-0867.
Filing Form I-131 based on a pending or approved Form I-821, and you are using FedEx, UPS, or DHL: You must include a copy of the Notice of Action (Form I-797C or Form I-797) showing USCIS received or approved your Form I-821 | USCIS, Attn: I-131 TPS, 2501 S. State Hwy. 121 Business, Ste. 400, Lewisville, TX 75067.

Biometric Services Fee for TPS

Biometrics (such as fingerprints) are required for all applicants, in addition to a biometric services fee. As previously stated, if you cannot pay the biometric services fee, you may request a fee waiver, which you may submit on Form I-912. For more information on the application forms and fees for TPS, please visit the USCIS TPS web page at https://uscis.gov/tps. USCIS may require you to visit an Application Support Center to have your biometrics collected. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at uscis.gov or visit the USCIS Contact Center at https://uscis.gov/contactcenter. If you still need assistance, you may ask a question about your case online at https://egov.uscis.gov/e-request/Intro.do or call the USCIS Contact Center at 800-375-5283 (TTY 800-767-1833).

When hired, what documentation may I show my employer as evidence of identity and employment authorization to complete Form I-9?

You can find the Lists of Acceptable Documents on Form I-9, Employment Eligibility Verification, as well as on the Acceptable Documents web page at https://uscis.gov/i-9-central/acceptable-documents. Employers must complete Form I-9 to verify the identity and employment authorization of all new employees. Within three business days of hire, employees must present acceptable documents to their employers as evidence of identity and employment authorization to satisfy Form I-9 requirements.

You may present one selection from List A (which provides evidence of both identity and employment authorization) or one selection from List B (which provides evidence of your identity) together with one selection from List C (which provides evidence of employment authorization), or you may present an acceptable receipt as described in these lists. Employers may not reject a document based on a future expiration date. You can find additional information about Form I-9 on the I-9 Central web page at https://www.uscis.gov/I-9Central. An EAD is an acceptable document under List A.

If I have an EAD based on another immigration status, can I obtain a new TPS-based EAD?

Yes, if you are eligible for TPS, you can obtain a new TPS-based EAD, even if you already have an EAD or work authorization based on another immigration status. If you want to obtain a new TPS-based EAD valid through May 27, 2026, you must file Form I-765 and pay the associated fee (unless USCIS grants your fee waiver request).

Can my employer require that I provide any other documentation to complete Form I-9, such as evidence of my status, proof of my Lebanese citizenship, or a Form I-797 showing that I registered for TPS?

No. When completing Form I-9, employers must accept any documentation you choose to present from the Form I-9 Lists of Acceptable Documents that reasonably appears to be genuine and that relates to you, or an acceptable List A, List B, or List C receipt. Employers may not request proof of Lebanese citizenship or proof of registration for TPS when completing Form I-9 for new hires or reverifying the employment authorization of current employees. Refer to the “Note to Employees” section of this Federal Register notice for important information about your rights if your employer rejects lawful documentation, requires additional documentation, or otherwise discriminates against you based on your citizenship or immigration status, or your national origin.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I9Central@uscis.dhs.gov. USCIS accepts calls and emails in English, Spanish and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in many languages. Employers may also email IER at IER@usdoj.gov or get more information online at https://www.justice.gov/ier.

Note to Employees

For general questions about the employment eligibility verification process, employees may call USCIS at 888-897-7781 (TTY 877-875-6028) or email USCIS at I-9Central@uscis.dhs.gov. USCIS accepts calls and emails in English, Spanish and many other languages. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify. The IER Worker Hotline provides language interpretation in many languages.

To comply with the law, employers must accept any document or combination of documents from the Lists of Acceptable Documents if the documentation reasonably appears to be genuine and to relate to the employee, or an acceptable List A, List B, or List C receipt as described in these lists. Employers may not require extra or additional documentation beyond what is required for Form I-9 completion. Further, employers participating in E-Verify who receive an E-Verify case result of “Tentative Nonconfirmation” (mismatch) must promptly inform employees of the mismatch and give such employees an opportunity to take action to contest the mismatch. A mismatch means that the information entered into E-Verify from Form I-9 differs from records available to DHS.

Employers may not terminate, suspend, delay training, withhold or lower pay, or take any adverse action against an employee because of a mismatch while the case is still pending with E-Verify. A Final Nonconfirmation (FNC) case result occurs if E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, individuals approved for TPS may show their Form I-797, Notice of Action, indicating approval of their Form I-821 application, or may show their EAD with category code of A12 or C19 to prove that they have TPS. However, while Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary or applicant, show you are authorized to work based on TPS or other status, or that may be used by DHS to determine if you have TPS or another immigration status. Examples of such documents are:

• Your new EAD with a TPS category code of A12 or C19, even if your country of birth noted on the EAD does not reflect the TPS-designated country of Lebanon;

• Your Form I-94, Arrival/Departure Record;

• Your Form I-797, Notice of Action, reflecting approval of your Form I-765; or

• Your Form I-797 or Form I-797C, Notice of Action, reflecting approval or receipt of a current Form I-821, if you received one from USCIS.

Check with the government agency requesting documentation about which documents the agency will accept.

Some state and local government agencies use SAVE, https://www.uscis.gov/save, to confirm the current immigration status of applicants for public benefits. SAVE can verify when an individual has TPS or a pending TPS application based on the documents above. In most cases, SAVE provides an automated electronic response to benefit-granting agencies within seconds, but occasionally verification can be delayed.

You can check the status of your SAVE verification by using CaseCheck at https://www.uscis.gov/save/save-casecheck. CaseCheck is a free service that lets you follow the progress of your SAVE verification case using your date of birth and one immigration identifier number (such as your A-Number, USCIS number, or Form I-94 number) or Verification Case Number. If an agency has denied your application based solely or in part on a SAVE response, the agency must allow you to appeal the decision in accordance with the agency's procedures. If the agency has received and acted on or will act on a SAVE verification and you do not believe the SAVE response is correct, the SAVE website, https://www.uscis.gov/save/for-benefit-applicants, has detailed information on how to correct or update your immigration record, make an appointment, or submit a written request to correct records.

[FR Doc. 2024-27788 Filed 11-26-24; 8:45 am]

BILLING CODE 9111-97-P